DEPARTMENT OF AGRICULTURE

Foreign Agricultural Service

Notice of Invocation of Special Agricultural Safeguard Measures Pursuant to the Uruguay Round Agreements Act

AGENCY: Foreign Agricultural Service, USDA.

ACTION: Notification of invocation of special agricultural safeguard duty on imports of articles containing over 65 percent by dry weight of sugars described in additional U.S. note 2 to chapter 17.

SUMMARY: After reviewing the volume of articles containing over 65 percent by dry weight of sugars described in the Harmonized Tariff Schedule of the United States (HTS), the Administrator of the Foreign Agricultural Service has determined that the yearly special safeguard trigger level has been met and a special safeguard duty on articles containing over 65 percent by dry weight of sugars will be imposed.

DATES: The additional safeguard duty will be imposed from April 16, 2025 through September 30, 2025.

ADDRESSES: Multilateral Affairs Division, Trade Policy and Geographic Affairs, Foreign Agricultural Service, U.S. Department of Agriculture, Stop 1070, 1400 Independence Avenue SW, Washington, DC 20250-1070

FOR FURTHER INFORMATION CONTACT: Sonya Wahi-Miller, sonya.wahi-miller@usda.gov, 202-649-3870.

SUPPLEMENTARY INFORMATION: U.S. Notes 1 and 2 to Subchapter IV, Chapter 99, of the Harmonized Tariff Schedule of the United States (HTS) contain safeguard measures established pursuant to Article 5 of the World Trade Organization (WTO) Agreement on Agriculture, as approved pursuant to Section 101 of the Uruguay Round Agreements Act (Pub. L. 103-465). These safeguard measures include the imposition of additional duties based upon the volume of articles containing over 65 percent by dry weight of sugars described in additional U.S. note 2 to chapter 17 imported into the United States. Subheadings 9904.17.39 through 9904.17.48 of the HTS provide for the imposition of additional safeguard duties for articles containing over 65 percent by dry weight of sugars described in additional U.S. note 2 to chapter 17 upon notification in the Federal Register by the Secretary of Agriculture or the Secretary's delegee that a specific volume of imports has been exceeded. The trigger level for the period October 1, 2024-September 30, 2025 for articles containing over 65 percent by dry weight of sugars described in additional U.S. note 2 to chapter 17 is 1,252 metric tons (89 FR 55217, July 3, 2024). Specifically, HTS subheadings 9904.17.39 through 9904.17.48 provide for additional duties, ranging from 7.9¢/kg + 2.8% to 23.5¢/kg + 2.8%.

Section 405(a) of the Uruguay Round Agreements Act requires, among other things, that the President shall determine and cause to be published in the Federal Register the list of special safeguard agricultural goods and the applicable trigger prices and, on an annual basis, quantity trigger levels. Section 405(b) of that Act provides, in relevant part, that if the President determines with respect to a special safeguard agricultural good that it is appropriate to impose the volume-based safeguard, then the President shall determine the amount of the duty to be imposed, the period such duty shall be in effect, and any other terms and conditions applicable to the duty.

Further to the application of such special agricultural safeguard duties, the President proclaimed on December 23, 1994 (Presidential Proclamation No. 6763) the provisions of U.S. Notes 1 and 2 to Subchapter IV, Chapter 99, of the HTS as well as the automatically applicable safeguard duties set forth in such subchapter upon satisfaction of the requisite conditions. Such U.S. Notes 1 and 2 set forth the other terms and conditions for application of any such duty.

As also provided in Presidential Proclamation 6763, the President delegated to the Secretary of Agriculture the authority to make the determinations and effect the publications described in section 405(a) of the Uruguay Round Agreements Act. The Secretary of Agriculture has further delegated this authority to the Under Secretary for Trade and Foreign Agricultural Affairs (7 CFR 2.15(a)(1)(xlii)), who has in turn further delegated the authority to determine the quantity trigger levels to the Administrator of the Foreign Agricultural Service (7 CFR 2.601(a)(42)). The Administrator determined that the October 1, 2024-September 30, 2025 trigger level for articles containing over 65 percent by dry weight of sugars described in additional U.S. note 2 to chapter 17 is 1,252 metric tons (89 FR 55217, July 3, 2024).

Notice

The Administrator has determined that the amount of articles containing over 65 percent by dry weight of sugars described in additional U.S. note 2 to chapter 17 imported during the October 1, 2024-September 30, 2025 period has exceeded the trigger level of 1,252 metric tons. In accordance with U.S. Notes 1 and 2, Subchapter IV, Chapter 99 of the HTS and HTS subheadings 9904.17.39, 9904.17.40, 9904.17.41, 9904.17.42, 9904.17.43, 9904.17.44, 9904.17.45, 9904.17.46, 9904.17.47, and 9904.17.48, additional duties of 11.3 cents per kilogram plus 1.7 percent; 13.3 cents per kilogram plus 3.5 percent; 11.2 cents per kilogram; 10.2 cents per kilogram plus 2.8 percent; 12.4 cents per kilogram plus 2 percent; 14.1 cents per kilogram plus 2.8 percent; 7.9 cents per kilogram plus 2.8%; 10.2 cents per kilogram plus 2.8 percent; 23.5 cents per kilogram plus 2.8 percent; and 9.6 cents per kilogram plus 2.8 percent shall apply to articles containing over 65 percent by dry weight of sugars described in additional U.S. note 2 to chapter 17 imported under HTS subheadings 1701.91.48 and 1702.90.68, 1704.90.68, 1806.10.28 and 1806.10.55, 1806.20.73, 1806.90.49, 1901.20.25 and 1901.20.60, 1901.90.54, 2101.12.48 and 2101.20.48, 2106.90.76, and 2106.90.94, respectively, from the date of publication of this notice through September 30, 2025.

As provided in U.S. Note 1 to Subchapter IV, Chapter 99 of the HTS, goods of Canada, Mexico, Jordan, Singapore, Chile, Australia, Morocco, El Salvador, Honduras, Nicaragua, Guatemala, Bahrain, Dominican Republic, Costa Rica, Peru, Oman, Korea, Colombia, and Panama imported into the United States are not subject to such duty. As provided in U.S. Note 2, this duty shall not apply to any goods enroute on the basis of a contract settled before the date of publication of this notice.

Issued at Washington, DC, this 11th day of April 2025.
Daniel Whitley,
Administrator, Foreign Agricultural Services.

[FR Doc. 2025-06478 Filed 4-15-25; 8:45 am]

BILLING CODE 3410-10-P